DEPARTMENT OF ENERGY

Federal Energy Regulatory Commission

[Docket No. RP01-163-002]

Dominion Transmission, Inc.; Notice of Proposed Changes in FERC Gas Tariff

January 9, 2001.

Take notice that on January 3, 2001, Dominion Transmission Inc. (DTI), tendered for filing as part of its FERC Gas Tariff, Third Revised Volume No. 1, the following revised tariff sheet, with an effective date of January 1, 2001:

Second Substitute Fourth Revised Sheet No. 32.

DTI states that the purpose of this filing is to amend the tariff sheet referenced above, in accordance with the Commission's December 27, 2000 Letter Order.

DTI states that copies of its letter of transmittal and enclosures have been served upon all parties on the official service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1139 Filed 1-12-01; 8:45 am]

BILLING CODE 6717-01-M